COMMISSION ON CIVIL RIGHTS

Sunshine Act Notice

AGENCY: Commission on Civil Rights.

DATE AND TIME: Monday, October 31, 2005, 2 p.m.

PLACE: U.S. Commission on Civil Rights, 624 9th Street, NW., Washington, DC 20425, Via Teleconference, Public Call-In number: 1-800-377-4872, Access Code Number: 45318301, Federal Relay Service: 1-800-877-8339.

STATUS:

Agenda

I. Approval of Agenda

II. Approval of Minutes of October 7, 2005, Meeting

III. State Advisory Committees Issues

• Working Group on SAC Reform

IV. Future Agenda Items

FOR FURTHER INFORMATION CONTACT: Terri Dickerson, Press and Communications (202) 376-8582.

Kenneth L Marcus,
Staff Director, Acting General Counsel.

[FR Doc. 05-21236 Filed 10-19-05; 3:22 pm]

BILLING CODE 6335-01-M